DEPARTMENT OF ENERGY

Federal Energy Regulatory Commission

[Docket Nos. CP04-386-000, CP04-400-000, CP04-401-000, CP04-402-000]

Golden Pass LNG Terminal LP, Golden Pass Pipeline LP; Notice of Applications

September 10, 2004.

Take notice that on July 29, 2004, supplemented on September 3, 2004, Golden Pass LNG Terminal LP (Golden Pass LNG) filed in Docket No. CP04-386-000 an application seeking authorization to site, construct and operate a liquefied natural gas (LNG) receiving terminal and associated facilities to be located approximately 10 miles south of Port Arthur, Texas and two miles northeast of the town of Sabine Pass, Texas. The LNG terminal will provide LNG tanker terminal services to third party shippers who would be importing LNG. Golden Pass LNG made the request to site, construct and operate the LNG terminal pursuant to section 3(a) of the Natural Gas Act and part 153 of the Commission's regulations. Golden Pass LNG also requests the approval of the Golden Pass LNG terminal as the place of entry for the imported LNG supplies.

Also take notice that on August 20, 2004, Golden Pass Pipeline LP (Golden Pass Pipeline) filed in Docket No. CP04-400-000 a companion application seeking a certificate of public convenience and necessity, pursuant to section 7(c) of the NGA and part 157, Subpart A of the Commission's regulations, to construct and operate approximately 120 miles of 36-inch and two miles of 24-inch pipeline and related facilities to transport natural gas on an open access basis. Golden Pass Pipeline is an affiliate of Golden Pass LNG. Also, in Docket No. CP04-401-000, Golden Pass Pipeline requests a blanket certificate under section 7(c) of the NGA and part 157, subpart F of the Commission's regulations to perform routine activities in connection with the future construction, operation and maintenance of the proposed pipeline. Finally, Golden Pass Pipeline requested authorization in Docket No. CP04-402-000 to provide the natural gas transportation services on a firm and interruptible basis pursuant to section 7(c) of the NGA and part 284 of the Commission's Regulations.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to James K. Hanrahan, 800 Bell Street, Houston, Texas, 77002. Phone: (713) 656-8602.

Golden Pass Pipeline will conduct 60-day open season for the purpose of obtaining binding commitments for firm transportation capacity. Golden Pass Pipeline says that the construction and operation of its pipeline will enable new competitively priced supplies of natural gas imported through the Golden Pass LNG terminal to reach markets all across the U.S.

Golden Pass LNG and Golden Pass Pipeline have provided the minimal amount of cultural resources information necessary for staff to begin the traditional scoping process under the National Environmental Policy Act (NEPA). For projects such as this one that use the traditional authorization process, a Draft Environmental Impact Statement (DEIS) is typically issued for public comment about 8 to 10 months from the filing date of the application. However, the Commission staff can complete and issue the DEIS only after the remaining cultural resources information is submitted.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see 18 CFR 385.2001(a)(1)(iii) and the instructions on the Commission's Web site under the “e-Filing” link. The Commission strongly encourages electronic filings.

Comment Date: September 30, 2004.

Magalie Salas,
Secretary.

[FR Doc. E4-2220 Filed 9-15-04; 8:45 am]

BILLING CODE 6717-01-P